DEPARTMENT OF STATE

[Public Notice 3968]

Bureau of Democracy, Human Rights and Labor Request for Grant Proposals: Human Rights and Democratization Initiatives in the Muslim World

SUMMARY: The Office for the Promotion of Human Rights and Democracy of the Bureau of Democracy, Human Rights and Labor announces an open competition for human rights and democratization initiatives in the Muslim world. Public and private non-profit organizations meeting the provisions described in Internal Revenue Code section 26 USC 501(c)(3) may submit proposals to administer these programs. Grants should begin no earlier than Summer 2002.

Program Information: The Bureau of Democracy, Human Rights and Labor (DRL) invites applicants to submit proposals that address programs and activities that foster democracy, human rights, press freedoms, women's political development and the rule of law in countries with a significant Muslim population, and where such programs and activities would be important to United States efforts to respond to, deter, or prevent acts of international terrorism. Innovative projects in predominantly Muslim countries will be considered, in particular, those that focus on the Middle East, including the Gulf States, and Central Asia.

U.S. national interests are best served by funding human rights and democratization initiatives in countries and regions of the world that are geo-strategically critical to the United States. Economic Support Funds (ESF) through the Human Rights and Democracy Fund (HRDF) support the implementation of innovative programs, and underscore the United States Government's continued commitment to promoting and protecting human rights and democracy in its fight against terrorism. HRDF projects must not duplicate or simply add to efforts by other entities.

Strong proposals usually have the following characteristics: an active, existing partnership between a U.S. organization and in-country organization(s); a proven track record for conducting successful program activity; a convincing plan outlining exactly how the program components will be carried out and what results will be achieved as a result of the grant; take place in-country or in a third country; and a follow-on plan that extends beyond the grant period ensuring that Bureau-supported programs are not isolated events.

Proposals should reflect a practical understanding of the current political, legal, economic and social environment that is relevant to the themes addressed in the proposal. In order to avoid the duplication of activities and programs, proposals should also indicate knowledge of similar projects being conducted in the region.

Applicants are expected to identify the U.S. and in-country partner organizations and individuals with whom they are proposing to collaborate and describe in detail previous cooperative projects undertaken by the organizations. Specific information about in-country partners' activities and accomplishments is required and should be included in the section on “Institutional Capacity.”

To be eligible for a grant award under this competition, the proposed programs must address one of the following specific themes for regional projects or single country projects:

All Countries

• Strengthening of Political and Governing Institutions (i.e. Judiciary, Parliament).

• Supporting Advocacy NGOs.

• Promoting Respect for Human Rights and Democratic Freedoms.

• Promoting Accountability, Transparency and Balance of Authority Among State Institutions.

• Supporting Independent Media.

• Integrating Women into Public Life.

• Promoting the Rule of Law.

Pakistan

• Assistance to Support a Transparent and Fair Election Process.

Budget Guidelines

The Bureau anticipates awarding grants in amounts of $250,000-$1,000,000 to support project and administrative costs required to implement these programs. Organizations with less than four years of experience in conducting similar programs may receive smaller grants. Applicants must submit a comprehensive budget for the entire program. There must be a summary budget as well as breakdowns reflecting both administrative and program budgets. Applicants may provide separate sub-budgets for each program component, phase, location, or activity to provide clarification.

Please refer to the Proposal Submission Instructions (PSI) for complete budget guidelines and formatting instructions.

Announcement Title and Number: All correspondence with the Bureau concerning this RFP should reference the above title and number DRL/PHD-02-01.

FOR FURTHER INFORMATION, CONTACT: The Office for the Promotion of Human Rights and Democracy of the Bureau of Democracy, Human Rights and Labor, DRL/PHD. Please specify Sondra Govatski: 202-647-9734 on all inquiries and correspondence.

Please read the complete Federal Register announcement before sending inquiries or submitting proposals. Once the RFP deadline has passed, Bureau staff may not discuss this competition with applicants until the proposal review process has been completed.

To Download a Solicitation Package via Internet

The Solicitation Package contains detailed award criteria, specific budget instructions, and standard guidelines for proposal preparation. The RFP and Proposal Submission Instructions (PSI) may be downloaded from the Bureau's website at http://www.state.gov/g/drl/.

Deadline for Proposals

All proposals must be received at the Bureau of Democracy, Human Rights and Labor by 5 p.m. Eastern Standard Time (EST) on Tuesday, April 30, 2002. Faxed documents will not be accepted at any time. Documents postmarked on the due date but received on a later date will not be accepted. Each applicant must ensure that the proposals are received by the above deadline.

Applicants must follow all instructions in the RFP and Proposal Submission Instructions (PSI). Two complete copies of the proposal should be sent to: U.S. Department of State, Bureau of Democracy, Human Rights and Labor, Ref: DRL/PHD-02-01, DRL/PHD, Room 7802, Washington, DC 20520.

Applicants must also submit the “Executive Summary” and “Proposal Narrative” sections of the proposal on a 3.5″ diskette, formatted for Microsoft Word. The “Budget” must be submitted in Microsoft Excel format.

Review Process

The Bureau will review proposals for eligibility. Proposals will be deemed ineligible if they do not fully adhere to the guidelines stated herein and in the Solicitation Package. All eligible proposals will be reviewed by DRL's Program Unit. Eligible proposals will be subject to compliance with Federal and Bureau regulations and guidelines and forwarded to Bureau grant panels for advisory review. Proposals may also be reviewed by the Office of the Legal Adviser or by other Department elements.

Review Criteria

Eligible applications will be competitively reviewed according to the criteria stated below. These criteria are not rank ordered and all carry equal weight in the proposal evaluation:

1. Quality of the program idea: Proposals should exhibit originality, substance, expertise, clarity, and relevance to the Bureau's mission.

2. Program planning and ability to achieve program objectives: A detailed agenda and work plan should demonstrate substantive undertakings and administrative capacity. Agenda and plan should adhere to the program overview and guidelines described above. Objectives should be reasonable and feasible. Proposals should clearly demonstrate how the institution will meet the program's objectives and plan.

3. Multiplier effect/impact: Proposed programs should promote long-term institution building or have other capacity-building results.

4. Institution's Record/Ability/Capacity: Proposals should demonstrate an institutional record of successful programs, including responsible fiscal management and full compliance with all reporting requirements for past Bureau grants as determined by Bureau Grant Staff. The Bureau will consider the past performance of prior recipients, the demonstrated potential of new applicants, and the strength and capacity of in-country partner organizations. Proposed personnel and institutional resources should be adequate and appropriate to achieve the program or project's goals.

5. Cost-effectiveness: The overhead and administrative components of the proposal, including salaries and honoraria, should be kept as low as possible. All other items should be necessary and appropriate.

Notice

The terms and conditions published in this RFP are binding and may not be modified by any Bureau representative.

Explanatory information provided by the Bureau that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been allocated and committed through internal Department procedures and notified to Congress.

Dated: March 27, 2002.
Lorne W. Craner,
Assistant Secretary for Democracy, Human Rights and Labor, Department of State.

[FR Doc. 02-7807 Filed 3-29-02; 8:45 am]

BILLING CODE 4710-18-P